DEPARTMENT OF ENERGY

Federal Energy Regulatory Commission

Combined Notice of Filings #1

Take notice that the Commission received the following electric corporate filings:

Docket Numbers: EC12-28-000.

Applicants: Richland-Stryker Generation LLC, SQ2, LLC,BR-HIYLD Rich-Stryker, LLC, R3 Capital Partners Master (DE) L.P.

Description: Application for Authorization Pursuant to Section 203 of the Federal Power Act and Requests for Waivers of Filing Requirements, Confidential Treatment, and Expedited Review of Richland-Stryker Generation LLC, et al.

Filed Date: 11/10/2011.

Accession Number: 20111110-5173.

Comment Date: 5 p.m. ET on 12/1/2011.

Docket Numbers: EC12-31-000.

Applicants: Chestnut Flats Wind, LLC.

Description: Application for Authorization for Disposition of Jurisdictional Facilities and Request for Expedited Action of Chestnut Flats Wind, LLC.

Filed Date: 11/15/2011.

Accession Number: 20111115-5190.

Comment Date: 5 p.m. ET on 12/6/2011.

Docket Numbers: EC12-32-000.

Applicants: Twin Cities Power, LLC, Twin Cities Energy, LLC, TC Energy Trading, LLC.

Description: Application of Twin Cities Energy, LLC, et al. for Authorization under Section 203 of the Federal Power Act and request for Expedited Consideration.

Filed Date: 11/16/2011.

Accession Number: 20111116-5155.

Comment Date: 5 p.m. ET on 12/7/2011.

Take notice that the Commission received the following exempt wholesale generator filings:

Docket Numbers: EG12-12-000.

Applicants: Kaheawa Wind Power II, LLC.

Description: Self-Certification of EG or FC of Kaheawa Wind Power II, LLC.

Filed Date: 11/14/2011.

Accession Number: 20111114-5412.

Comment Date: 5 p.m. ET on 12/5/2011.

Docket Numbers: EG12-13-000.

Applicants: Broken Bow Wind, LLC.

Description: Self-Certification of EG or FC of Broken Bow Wind, LLC.

Filed Date: 11/16/2011.

Accession Number: 20111116-5137.

Comment Date: 5 p.m. ET on 12/7/2011.

Docket Numbers: EG12-14-000.

Applicants: Crofton Bluffs Wind, LLC.

Description: Self-Certification of EG or FC of Crofton Bluffs Wind, LLC.

Filed Date: 11/16/2011.

Accession Number: 20111116-5138.

Comment Date: 5 p.m. ET on 12/7/2011.

Take notice that the Commission received the following electric rate filings:

Docket Numbers: ER10-1342-002; ER10-1343-002; ER10-1345-002; ER11-2534-001; ER10-2759-002; ER10-2631-002; ER10-2632-002.

Applicants: Rumford Power Inc., Bridgeport Energy, LLC, CP Energy Marketing (US) Inc., CPIDC, Inc., Tiverton Power Inc., Morris Cogeneration, LLC, CPI Energy Services (US) LLC.

Description: Supplement to Triennial Market-Based Rate Update for the Northeast Region.

Filed Date: 11/15/2011.

Accession Number: 20111115-5189.

Comment Date: 5 p.m. ET on 12/6/2011.

Docket Numbers: ER10-2310-001; ER10-2314-001; ER10-2311-001; ER10-2312-001; ER10-2313-001; ER10-2316-001; ER10-2318-001; ER10-2321-001; ER10-2315-001.

Applicants: Covanta Maine, LLC, Covanta Essex Company Covanta Plymouth Renewable Energy Limited, Covanta Delaware Valley, L.P., Covanta Union, Inc., Covanta Hempstead Company, Covanta Niagara, L.P., Covanta Power, LLC, Covanta Energy Marketing LLC.

Description: Covanta MBR Entities submit Supplement to Updated Market Power Analysis.

Filed Date: 11/16/2011.

Accession Number: 20111116-5113.

Comment Date: 5 p.m. ET on 12/7/2011.

Docket Numbers: ER11-2895-002.

Applicants: Duke Energy Carolinas, LLC.

Description: Formula Rate Compliance Filing to be effective 6/1/2011.

Filed Date: 11/10/2011.

Accession Number: 20111110-5089.

Comment Date: 5 p.m. ET on 12/1/2011.

Docket Numbers: ER11-3415-001.

Applicants: Midwest Independent Transmission System Operator, Inc., American Transmission Systems, Incorporated.

Description: 11-16-11 ATSI Exit Fee Compliance to be effective 5/31/2011.

Filed Date: 11/16/2011.

Accession Number: 20111116-5127.

Comment Date: 5 p.m. ET on 12/7/2011.

Docket Numbers: ER11-3979-003.

Applicants: Midwest Independent Transmission System Operator, Inc., PJM Interconnection, LLC.

Description: Compliance Filing in Docket ER11-3979 re MISO-PJM JOA Attachment 2 Section 6.6 to be effective 9/17/2010.

Filed Date: 11/10/2011.

Accession Number: 20111110-5172.

Comment Date: 5 p.m. ET on 12/1/2011.

Docket Numbers: ER11-4318-001.

Applicants: San Diego Gas & Electric Company.

Description: San Diego Gas & Electric Company submits compliance filing re the Order on Annual Formula Rate Filing etc.

Filed Date: 11/14/2011.

Accession Number: 20111115-0201.

Comment Date: 5 p.m. ET on 12/5/2011.

Docket Numbers: ER11-4632-001.

Applicants: Southwestern Electric Power Company.

Description: 20111116 Bentonville PSA to be effective 12/17/2010.

Filed Date: 11/16/2011.

Accession Number: 20111116-5071.

Comment Date: 5 p.m. ET on 12/7/2011.

Docket Numbers: ER12-368-001.

Applicants: ITC Midwest LLC.

Description: Errata Filing to be effective 1/10/2012.

Filed Date: 11/16/2011.

Accession Number: 20111116-5044.

Comment Date: 5 p.m. ET on 12/7/2011.

Docket Numbers: ER12-381-001.

Applicants: California Independent System Operator Corporation.

Description: 2011-11-10 Errata to Amendment 2 of CAISO SRP ICAOA to be effective 11/12/2011.

Filed Date: 11/10/2011.

Accession Number: 20111110-5115.

Comment Date: 5 p.m. ET on 12/1/2011.

Docket Numbers: ER12-423-000.

Applicants: California Independent System Operator Corporation.

Description: 2011-11-16 CAISO LMPM Amendment to be effective 4/11/2012.

Filed Date: 11/16/2011.

Accession Number: 20111116-5095.

Comment Date: 5 p.m. ET on 12/7/2011.

Docket Numbers: ER12-424-000.

Applicants: Midwest Independent Transmission System Operator, Inc., International Transmission Company.

Description: J122 ITCTransmission-Detroit Edison to be effective 10/19/2011.

Filed Date: 11/16/2011.

Accession Number: 20111116-5115.

Comment Date: 5 p.m. ET on 12/7/2011.

Docket Numbers: ER12-425-000.

Applicants: Midwest Independent Transmission System Operator, Inc., Michigan Electric Transmission Company, LLC.

Description: J132 METC-Beebe to be effective 10/24/2011.

Filed Date: 11/16/2011.

Accession Number: 20111116-5118.

Comment Date: 5 p.m. ET on 12/7/2011.

Docket Numbers: ER12-426-000.

Applicants: The United Illuminating Company.

Description: Amended Interconnection Agreement By and Between UI and PSEG to be effective 10/31/2011.

Filed Date: 11/16/2011.

Accession Number: 20111116-5124.

Comment Date: 5 p.m. ET on 12/7/2011.

Docket Numbers: ER12-427-000.

Applicants: Midwest Independent Transmission System Operator, Inc.

Description: 11-16-11 CMMPA Regulatory Asset Filing to be effective 3/21/2011.

Filed Date: 11/16/2011.

Accession Number: 20111116-5129.

Comment Date: 5 p.m. ET on 12/7/2011.

Docket Numbers: ER12-428-000.

Applicants: New York Independent System Operator, Inc.

Description: Amended and Restated LGIA Among NYISO, NYSEG, and Howard Wind to be effective 10/27/2011.

Filed Date: 11/16/2011.

Accession Number: 20111116-5146.

Comment Date: 5 p.m. ET on 12/7/2011.

Docket Numbers: ER12-429-000.

Applicants: ISO New England Inc.

Description: Capacity Supply Obligation Resource Termination.

Filed Date: 11/17/2011.

Accession Number: 20111117-5098.

Comment Date: 5 p.m. ET on 12/8/2011.

Take notice that the Commission received the following electric securities filings:

Docket Numbers: ES11-52-000.

Applicants: PPL Electric Utilities Corporation.

Description: PPL Electric Utilities Corporation's supplement to its application for approval to issue promissory notes and other evidences of secured and unsecured short-term indebtedness.

Filed Date: 11/16/2011.

Accession Number: 20111116-5078.

Comment Date: 5 p.m. ET on 11/28/2011.

Take notice that the Commission received the following PURPA 210(m)(3) filings:

Docket Numbers: QM12-1-000.

Applicants: ALLETE, Inc.

Description: Application to Terminate Mandatory PURPA Purchase Obligation of ALLETE, Inc.

Filed Date: 11/16/2011.

Accession Number: 20111116-5165.

Comment Date: 5 p.m. ET on 12/14/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2011.
Nathaniel J. Davis, Sr.,
Deputy Secretary.

[FR Doc. 2011-30338 Filed 11-23-11; 8:45 am]

BILLING CODE 6717-01-P